DEPARTMENT OF TRANSPORTATION

Federal Aviation Administration

Policy Statement PS-ACE100-2004-10024, Installation of Electronic Engine Control for Reciprocating Engine

AGENCY: Federal Aviation Administration (FAA), DOT.

ACTION: Notice of availability of proposed policy statement and request for comments.

SUMMARY: This notice announces the availability of and requests comments on a proposed policy statement. Proposed Policy Statement, PS-ACE100-2004-10024, is to help identify appropriate certification requirements for installation of an Electronic Engine Control (EEC) into a small airplane with a reciprocating engine. It includes guidance related to methods of compliance as well as identifying when equivalent level of safety findings (ELOS) and special conditions may be necessary.

This policy statement addresses the certification requirements for the installation of an EEC that has been approved for use on a part 33 engine into a part 23 airplane. Material in this policy statement is neither mandatory nor regulatory in nature and does not constitute a regulation.

DATES: Comments must be received on or before September 21, 2004.

ADDRESSES: Send all comments on the proposed policy statement to: Federal Aviation Administration, Small Airplane Directorate, Aircraft Certification Service, Regulations and Policy (ACE-111), 901 Locust Street, Kansas City, Missouri 64106.

FOR FURTHER INFORMATION CONTACT: Mr. Pete Rouse, Standards Office, Small Airplane Directorate, Aircraft Certification Service, Kansas City, Missouri 64106, telephone (816) 329-4135, fax (816) 329-4090; e-mail peter.rouse@faa.gov.

SUPPLEMENTARY INFORMATION: Any person may obtain a copy of this proposed policy statement by contacting the person named above under FOR FURTHER INFORMATION CONTACT. A copy of the policy statement will also be available on the Internet at http://www.airweb.faa.gov/ Policy within a few days.

Comments Invited: We invite interested parties to submit comments on the proposed policy statement. Commenters must identify PS-ACE100-2004-10024 and submit comments to the address specified above. The FAA will consider all communications received on or before the closing date for comments before issuing the final policy statement. The proposed policy statement and comments received may be inspected at the Standards Office (ACE-110), 901 Locust, Room 301, Kansas City, Missouri, between the hours of 8:30 and 4 p.m. weekdays, except Federal holidays by making an appointment in advance with the person listed under FOR FURTHER INFORMATION CONTACT.

Background: Installation of an EEC into part 23 airplanes may include design features not envisioned when 14 CFR, part 23 was created. This policy highlights areas where special conditions may be appropriate for these installations. However, appropriate special conditions for each installation must be determined on a case-by-case basis in accordance with 14 CFR, part 21, § 21.16, § 21.17, and 14 CFR, part 11.

Installing an EEC in a small certificated airplane design is not considered a design change so substantial that it would require a new airplane Type Certificate (TC) under 14 CFR, part 21, § 21.19. Therefore, it is considered appropriate to install an approved EEC into a certificated airplane using the STC or ATC process.

Proposed EEC installations, whether supplemental, amended, or new TC projects will be considered significant as defined in Order 8100.5, paragraph 103j. Accordingly, the FAA is proposing and requesting comments on PS-ACE100-2004-10024.

Issued in Kansas City, Missouri, on July 7, 2004.
James E. Jackson,
Acting Manager, Small Airplane Directorate, Aircraft Certification Service.

[FR Doc. 04-16853 Filed 7-22-04; 8:45 am]

BILLING CODE 4910-13-P